DEPARTMENT OF HOMELAND SECURITY

Transportation Security Administration

[Docket No. TSA-2018-0001]

Request for Applicants for Appointment to the Surface Transportation Security Advisory Committee

AGENCY: Transportation Security Administration, DHS.

ACTION: Committee management; request for applicants.

SUMMARY: The Transportation Security Administration (TSA) is requesting applications from individuals who are interested in being appointed to serve on the Surface Transportation Security Advisory Committee (STSAC). All applicants must represent one of the constituencies specified below in order to be eligible for appointment. STSAC's mission is to provide advice, consultation, and recommendations to the TSA Administrator on improving surface transportation security matters, including developing, refining, and implementing policies, programs, initiatives, rulemakings, and security directives pertaining to surface transportation security, while adhering to sensitive security information requirements. The STSAC considers risk-based approaches in the performance of its duties.

DATES: Applications for membership must be submitted to TSA using one of the methods in the ADDRESSES section below on or before July 20, 2023.

ADDRESSES: Applications must be submitted by one of the following means:

• Email: STSAC@tsa.dhs.gov.

• Mail: Judith Harroun-Lord, STSAC Designated Federal Officer, Transportation Security Administration (TSA-28), TSA Mailstop 6028, 6595 Springfield Center Drive, Springfield, VA 20598-6028.

See SUPPLEMENTARY INFORMATION for application requirements.

FOR FURTHER INFORMATION, CONTACT: Judith Harroun-Lord, STSAC Designated Federal Officer (DFO), Transportation Security Administration (TSA-28), TSA Mailstop 6028, 6595 Springfield Center Drive, Springfield, VA 20598-6028, STSAC@tsa.dhs.gov, 571-227-2283.

SUPPLEMENTARY INFORMATION: The STSAC is an advisory Committee established pursuant to section 1969, Division K, TSA Modernization Act, of the FAA Reauthorization Act of 2018 (Pub. L. 115-254; 132 Stat. 3186; Oct. 5, 2018). The Committee is composed of individual members representing key constituencies affected by surface transportation security requirements.

Application for Advisory Committee Appointment

TSA is seeking applications for up to 15 members with specific expertise in surface transportation. Any person wishing to be considered for appointment to STSAC must provide the following:

• Complete professional resume.

• Statement of interest and reasons for application, including the membership category and how you represent a significant portion of that constituency, and a brief explanation of how you can contribute to one or more TSA strategic initiatives, based on your prior experience with TSA or your review of current TSA strategic documents that can be found at www.tsa.gov/about/strategy.

• Home and work addresses, telephone number, and email address.

In order for DHS to fully leverage broad-ranging experience and education, the STSAC must be diverse with regard to professional and technical expertise. DHS also is committed to pursuing opportunities, consistent with applicable law, to compose a committee that reflects the diversity of the nation's people.

Membership

The STSAC is composed of no more than 40 voting members from among stakeholders representing each mode of surface transportation, such as passenger rail, freight rail, mass transit, pipelines, highways, over-the-road bus, school bus industry, and trucking; and may include representatives from—

1. Associations representing such modes of surface transportation;

2. Labor organizations representing such modes of surface transportation;

3. Groups representing the users of such modes of surface transportation, including asset manufacturers, as appropriate;

4. Relevant law enforcement, first responders, and security experts; and

5. Such other groups as the TSA Administrator considers appropriate.

The STSAC also includes nonvoting members, serving in an advisory capacity, who are designated by TSA; the Department of Transportation; the Coast Guard; and such other Federal department or agency as the TSA Administrator considers appropriate.

The STSAC does not have a specific number of members allocated to any membership category and the number of members in a category may change to fit the needs of the Committee, but optimally each category is represented by a minimum of one individual. Members will serve as representatives and speak on behalf of their respective constituency group. Membership on the Committee is personal to the appointee and a member may not send an alternate to a Committee meeting. The members of the Committee shall not receive any compensation from the Government by reason of their service on the Committee.

Committee Membership

Committee members are appointed by and serve at the pleasure of the Administrator of TSA for a term of 2 years, but a voting member may continue to serve until the Administrator appoints a successor. Voting members who are currently serving on the Committee are eligible to reapply for membership. A new application is required.

Committee Meetings

The Committee shall meet as frequently as deemed necessary by the Designated Federal Official (DFO) in consultation with the Chairperson, but no less than two (2) scheduled meetings each year. At least one meeting will be open to the public each year. Unless the DFO decides otherwise, meetings will be held in person in the Washington, DC metropolitan area or through web conferencing. In addition, STSAC members are expected to participate on STSAC subcommittees that normally meet more frequently to deliberate and discuss specific surface transportation matters.

Committee Membership Vetting

All applicants who are presented for appointment to the STSAC must successfully complete a Security Threat Assessment (STA) by TSA, as access to sensitive security information will be necessary. U.S. citizens and those meeting residency requirements will be vetted using TSA's Universal Enrollment Services (UES), which includes the collection of biographic and biometric information to allow TSA to perform the STA in regards to criminal history, intelligence, and citizenship. Selected applicants will be offered a no-cost authorization code to complete the three-step UES process; which includes online pre-enrollment and coordinating an in-person visit to the enrollment center. Non-U.S. applicants presented for appointment to the STSAC will be required to complete additional vetting.

Dated: June 13, 2023.
Eddie D. Mayenschein,
Assistant Administrator, Policy, Plans, and Engagement.

[FR Doc. 2023-13021 Filed 6-16-23; 8:45 am]

BILLING CODE 9110-05-P